FEDERAL COMMUNICATIONS COMMISSION

[DA 14-1854]

Notice of Debarment

AGENCY: Federal Communications Commission.

ACTION: Notice.

SUMMARY: The Enforcement Bureau (the “Bureau”) debars Marvin Mitch Freeman from the schools and libraries universal service support mechanism (or “E-Rate Program”) for a period of three years. The Bureau takes this action to protect the E-Rate Program from waste, fraud, and abuse.

DATES: Debarment commences on the date Mr. Marvin Mitch Freeman receives the debarment letter or January 7, 2015, whichever date comes first, for a period of three years.

FOR FURTHER INFORMATION CONTACT: Joy M. Ragsdale, Attorney Advisor, Federal Communications Commission, Enforcement Bureau, Investigations and Hearings Division, Room 4-C330, 445 12th Street SW., Washington, DC 20554. Joy Ragsdale may be contacted by telephone at (202) 418-1697 or by email at Joy.Ragsdale@fcc.gov. If Ms. Ragsdale is unavailable, you may contact Ms. Theresa Cavanaugh, Chief, Investigations and Hearings Division, by telephone at (202) 418-1420 and by email at Jeffrey.Gee@fcc.gov.

SUPPLEMENTARY INFORMATION: The Bureau debarred Mr. Marvin Mitch Freeman from the schools and libraries service support mechanism for a period of three years pursuant to 47 CFR 54.8. Attached is the debarment letter, DA 14-1854, which was mailed to Mr. Freeman and released on December 18, 2014. The complete text of the notice of debarment is available for public inspection and copying during regular business hours at the FCC Reference Information Center, Portal II, 445 12th Street SW., Room CY-A257, Washington, DC 20554. In addition, the complete text is available on the FCC's Web site at http://www.fcc.gov. The text may also be purchased from the Commission's duplicating contractor, Best Copy and Printing, Inc., Portal II, 445 12th Street SW., Room CY-B420, Washington, DC 20554, telephone (202) 488-5300 or (800) 378-3160, facsimile (202) 488-5563, or via email http://www.bcpiweb.com.

Federal Communications Commission.
Jeffrey J. Gee,
Acting Chief, Investigations and Hearings Division, Enforcement Bureau.

December 18, 2014

DA 14-1854

SENT VIA CERTIFIED MAIL, RETURN RECEIPT REQUESTED AND E-MAIL

Mr. Marvin Mitch Freeman,

1408 Northhill Street,

Selma, CA 93662,

Re: Debarment Notice, FCC Case No. EB-IHD-14-00015659

Dear Mr. Freeman:

The Federal Communications Commission (Commission) hereby notifies you that, pursuant to Section 54.8 of its rules, you are prohibited from participating in activities associated with or relating to the schools and libraries universal service support mechanism (E-Rate program) for three years from either the date of your receipt of this Notice of Debarment or of its publication in the Federal Register, whichever is earlier in time (Debarment Date).¹

¹ 47 CFR 54.8(e), (g); see also id. 0.111 (delegating authority to the Enforcement Bureau to resolve universal service suspension and debarment proceedings).

On August 26, 2014, the Commission's Enforcement Bureau sent you a Notice of Suspension and Initiation of Debarment Proceedings that was published in the Federal Register on September 12, 2014.² That Suspension Notice suspended you from participating in activities associated with or relating to the E-Rate program. It also described the basis for initiating debarment proceedings against you, the applicable debarment procedures, and the effect of debarment.

² Letter from Jeffrey J. Gee, Acting Chief, Investigations and Hearings Division, FCC Enforcement Bureau, to Marvin Mitch Freeman, Notice of Suspension and Initiation of Debarment Proceedings, 29 FCC Rcd 10114 (Enf. Bur. 2014) (Suspension Notice); 79 FR 54718 (Sept. 12, 2014).

As discussed in the Suspension Notice, on March 17, 2011, you were convicted of conspiring with Gregory Paul Styles, the Management Information Systems Director for the Chowchilla Elementary School District (CESD), to obstruct the competitive bidding process and defraud the E-Rate program of approximately $788,000.³ You and Mr. Styles used your silk screening company, Twisted Head Design, to bid on CESD's E-Rate contracts.⁴ Mr. Styles awarded E-Rate contracts to Twisted Head Design knowing you and the company were unqualified to perform E-Rate work, performed the work himself or through his subcontractors, and billed USAC for that work.⁵ Pursuant to Section 54.8(c) of the Commission's rules, your conviction of criminal conduct associated with the E-Rate program is the basis for this debarment.⁶

³ United States v. Marvin Mitch Freeman, Criminal Docket No. 1:06-cr-00013-002, Judgment at 1 (E.D. Cal. filed March 17, 2011); Suspension Notice, 29 FCC Rcd at 10115-16.

⁴ Suspension Notice, 29 FCC Rcd at 10115.

⁵ Id.

⁶ 47 CFR 54.8(c).

In accordance with the Commission's debarment rules, you were required to file with the Commission any opposition to your suspension or its scope, or to your proposed debarment or its scope, no later than 30 calendar days from either the date of your receipt of the Suspension Notice or of its publication in the Federal Register, whichever date occurred first.⁷ The Commission did not receive any such opposition from you.

⁷ Id.54.8 (e)(3), (4). Any opposition had to be filed no later than October 3, 2014.

For the foregoing reasons, you are debarred from participating in activities associated with or related to the E-Rate program for three years from the Debarment Date.⁸ During this debarment period, you are excluded from participating in any activities associated with or related to the E-Rate program, including the receipt of funds or discounted services through the E-Rate program, or consulting with, assisting, or advising applicants or service providers regarding the E-Rate program.⁹

⁸ Id. 54.8(e)(5), (g).

⁹ Id. 54.8(a)(1), (5), (d).

Sincerely,

Jeffrey J. Gee

Acting Chief, Investigations and Hearings Division Enforcement Bureau

[FR Doc. 2015-00034 Filed 1-6-15; 8:45 am]

BILLING CODE 6712-01-P